DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based upon the petitioner's statements, comments and information submitted by interested persons, and a field investigation of the conditions at the mine. MSHA, as designee of the Secretary, has granted or partially granted the requests for modification listed below. In some instances, the decisions are conditioned upon compliance with stipulations stated in the decision. The term FR Notice appears in the list of affirmative decisions below. The term refers to the Federal Register volume and page where MSHA published a notice of the filing of the petition for modification.

FOR FURTHER INFORMATION CONTACT: Petitions and copies of the final decisions are available for examination by the public in the Office of Standards, Regulations, and Variances, MSHA, 1100 Wilson Boulevard, Room 2350, Arlington, Virginia 22209. For further information contact Barbara Barron at 202-693-9447.

Dated at Arlington, Virginia, this 16th day of January, 2004.
Marvin W. Nichols, Jr.,
Director, Office of Standards, Regulations, and Variances.

Affirmative Decisions on Petitions for Modification

Docket No.: M-1999-042-C.

FR Notice: 64 FR 32553.

Petitioner: R S & W Coal Company, Inc.

Regulation Affected: 30 CFR 75.1312(e)(1).

Summary of Findings: Petitioner's proposal is to store explosives and detonators in gangways at least 4 feet above the roadway and offset from the rib 12 feet into solid rock rather than the minimum distance of 25 feet required by the existing standard. This is considered an acceptable alternative method for the R S & W Drift Mine. MSHA grants the petition for modification to store explosives and detonators in an alternative location off the gangway at least 10 feet from roadways and any source of electric current at the R S & W Drift Mine with conditions.

Docket No.: M-1999-045-C.

FR Notice: 64 FR 32554.

Petitioner: B. and B. Coal Company.

Regulation Affected: 30 CFR 75.1312(e)(1).

Summary of Findings: Petitioner's proposal is to store explosives and detonators in a chute off the gangway at least 10 feet from roadways and any source of electric current in lieu of the 25 feet required by the existing standard. This is considered an acceptable alternative method for the Rock Ridge No. 1 Slope Mine. MSHA grants the petition for modification for explosives and detonators to be stored in an alternative location off the gangway at least 10 feet from roadways and any source of electric current at the Rock Ridge No. 1 Slope Mine with conditions.

Docket No.: M-1999-140-C.

FR Notice: 65 FR 1914.

Petitioner: Twentymile Coal Company.

Regulation Affected: 30 CFR 75.1909(a)(1).

Summary of Findings: Petitioner's proposal is to use an alternative method for engine approval for a diesel generator. The petitioner proposes to equip its diesel generator (Engine Serial No. 1WB16204) with a DST Management System™ exhaust conditioner and use a ventilation rate of 29,000 cfm. This is considered an acceptable alternative method for the Foidel Creek Mine. MSHA grants the petition for modification for generator set using a Caterpillar 3406 PITA engine used at the Foidel Creek Mine with conditions.

Docket No.: M-2000-097-C.

FR Notice: 65 FR 58818.

Petitioner: Twentymile Coal Company.

Regulation Affected: 30 CFR 75.1909(a)(1).

Summary of Findings: Petitioner's proposal is to use three pieces of diesel equipment which utilizes Caterpillar 3304 PCT, 4-cylinder diesel engines, rated at 165hp and 2200 RPM at its mine and affiliated mine to haul equipment and supplies and to revel throughout the mines. This is considered an acceptable alternative method for the Foidel Creek Mine. MSHA grants the petition for modification for the use of three Caterpillar 3304 PCT engines at the Foidel Creek Mine with conditions.

Docket No.: M-2001-029-C.

FR Notice: 66 FR 30232.

Petitioner: Bowie Resources Limited.

Regulation Affected: 30 CFR 75.1726(a).

Summary of Findings: Petitioner's proposal is to use modified diesel powered L.H.D's or scoops as elevated mobile work platforms at the Bowie No. 2 Mine. This is considered an acceptable alternative method for the Bowie No. 2 Mine. MSHA grants the petition for modification for the Wagner Scoops and scoop buckets at the Bowie No. 2 Mine with conditions.

Docket No.: M-2002-066-C.

FR Notice: 67 FR 54675.

Petitioner: Energy West Mining Company.

Regulation Affected: 30 CFR 75.500(d).

Summary of Findings: Petitioner's proposal is to use the following non-permissible equipment inby the last open crosscut: low-voltage or battery-powered electronic testing and diagnostic equipment such as: lap top computers, oscilloscopes, vibration analysis machines, cable fault detectors, point temperature probes, recording amp meters, thermal image devices, infrared temperature devices and recorders, pressure and flow measurement devices, signal analyzer devices, ultrasonic thickness gauges, electronic component testers, and electronic tachometers; low-voltage electric or battery-powered drills and grinders; and other testing and diagnostic equipment if approved in advance by the District Office. The petitioner also proposes to have a qualified person examine this equipment on a weekly basis, and examine new equipment prior to use. This is considered an acceptable alternative method for the Deer Creek Mine. MSHA grants the petition for modification under controlled conditions for testing and diagnostics on permissible mining equipment at the Deer Creek Mine.

Docket No.: M-2002-070-C.

FR Notice: 67 FR 54676.

Petitioner: Energy West Mining Company.

Regulation Affected: 30 CFR 75.1002-1(a).

Summary of Findings: Petitioner's proposal is to use the following non-permissible equipment inby the last open crosscut: low-voltage or battery powered electronic testing and diagnostic equipment such as: lap top computers, oscilloscopes, vibration analysis machines, cable fault detectors, point temperature probes, recording amp meters, thermal image devices, infrared temperature devices and recorders, pressure and flow measurement devices, signal analyzer devices, ultrasonic thickness gauges, electronic component testers, and electronic tachometers; low-voltage electric or battery-powered drills and grinders; and other testing and diagnostic equipment if approved in advance by the District Office. The petitioner also proposes to have a qualified person examine this equipment on a weekly basis, and examine new equipment prior to use. This is considered an acceptable alternative method for the Deer Creek Mine. MSHA grants the petition for modification under controlled conditions for testing and diagnostics on permissible mining equipment at the Deer Creek Mine.

Docket No.: M-2002-104-C.

FR Notice: 67 FR 78822.

Petitioner: Mettiki Coal, LLC.

Regulation Affected: 30 CFR 77.214(a).

Summary of Findings: Petitioner's proposal is to extend its Mettiki General's refuse pile over four sealed openings to the abandoned Mettiki Gobbler's Knob Mine. This is considered an acceptable alternative method for the Mettiki's General Mine. MSHA grants the petition for modification for the Mettiki's General Mine with conditions.

Docket No.: M-2003-001-C.

FR Notice: 68 FR 3898.

Petitioner: Orchard Coal Company.

Regulation Affected: 30 CFR 75.1002(a).

Summary of Findings: Petitioner's proposal is to use non-permissible electric equipment within 150 feet of the pillar line. This equipment would include drags and battery locomotives due in part to the method of mining used in pitching anthracite mines and the alternative evaluation of the mine air quality for methane on an hourly basis during operation. In addition, equipment operation will be suspended if at any time the methane concentration at the equipment reaches 0.5 percent. This is considered an acceptable alternative method for the Orchard Slope Mine. MSHA grants the petition for modification for the use non-permissible battery-powered locomotives and associated non-permissible electric components located within 150 feet from pillar workings at the Orchard Slope Mine with conditions.

Docket No.: M-2003-003-C.

FR Notice: 68 FR 3898.

Petitioner: Anita Mining Company.

Regulation Affected: 30 CFR 75.1100-2(e)(2).

Summary of Findings: Petitioner's proposal is to use two (2) portable fire extinguishers in lieu of using one portable fire extinguisher and 240 pounds of rock dust at all temporary electrical installations at the Ondo Extension Mine. This is considered an acceptable alternative method for the Ondo Extension Mine. MSHA grants the petition for modification for the Ondo Extension Mine with conditions.

Docket No.: M-2003-011-C.

FR Notice: 68 FR 15244.

Petitioner: Snyder Coal Company.

Regulation Affected: 30 CFR 75.335.

Summary of Findings: Petitioner's proposal is to use wooden materials of moderate size and weight for constructing seals due to the difficulty in accessing previously driven headings and breasts containing inaccessible abandoned workings; accept a design criteria in the 10 psi range; and permit the water trap to be installed in the gangway seal and sampling tube in the monkey seal for seals installed in pairs. This is considered an acceptable alternative method for the N. and L. Slope Mine. MSHA grants the petition for modification for seals installed in the N. and L. Slope Mine with conditions.

Docket No.: M-2003-012-C.

FR Notice: 68 FR 15244.

Petitioner: Snyder Coal Company.

Regulation Affected: 30 CFR 75.1002.

Summary of Findings: Petitioner's proposal is to use non-permissible electric equipment within 150 feet of the pillar line in the working section's only intake entry (gangway) that is regularly traveled and examined. This equipment will include drags and battery locomotives due in part to the method of mining used in pitching anthracite mines, and the alternative evaluation of the mine's air quality for methane on an hourly basis during operation. In addition, equipment operation will be suspended if at anytime the methane concentration at the equipment reaches 0.5 percent. This is considered an acceptable alternative method for the N. and L. Slope Mine. MSHA grants the petition for modification for the use of non-permissible battery-powered locomotives and non-permissible electric drags and associated non-permissible electric components located within 150 feet from pillar workings at the N. and L. Slope Mine with conditions.

Docket No.: M-2003-013-C.

FR Notice: 68 FR 15244.

Petitioner: Cannelton Industries, Inc.

Regulation Affected: 30 CFR 75.1002.

Summary of Findings: Petitioner's proposal is to use 2,400-volt electricity to power continuous mining equipment at the Shadrick Mine. This is considered an acceptable alternative method for the Shadrick Mine. MSHA grants the petition for modification for the Shadrick Mine with conditions.

Docket No.: M-2003-016-C.

FR Notice: 68 FR 15245.

Petitioner: Canyon Fuel Company, LLC.

Regulation Affected: 30 CFR 75.500(d).

Summary of Findings: Petitioner's proposal is to use low-voltage or battery-powered non-permissible electronic testing and diagnostic equipment in or inby the last open crosscut under controlled conditions. The petitioner proposes to use the following equipment: lap top computers, oscilloscopes, vibration analysis machines, cable fault detectors, point temperature probes, infrared temperature devices, insulation testers (meggers), voltage, current and power measurement devices and recorders, pressure and flow measurement devices, signal analyzer device, ultrasonic thickness gauges, electronic component testers, electronic tachometers, and other testing and diagnostic equipment that may be approved by the MSHA District Office. The petitioner states that non-permissible electronic testing and diagnostic equipment shall only be used when equivalent permissible equipment does not exist. The petitioner further states that equipment used in or inby the last open crosscut shall be examined by a qualified person as defined in existing 30 CFR 75.153, prior to being used to ensure the equipment is being maintained in a safe operating condition. The examination results will be recorded in a book and made available to an authorized representative of the Secretary and the miners at the mine. The petitioner has listed specific procedures in this petition, including monitoring, that would be followed when using the non-permissible equipment. This is considered an acceptable alternative method for the Skyline Mine. MSHA grants the petition for modification for use at the Skyline Mine with conditions.

Docket No.: M-2003-017-C.

FR Notice: 68 FR 15245.

Petitioner: L-Coal Company.

Regulation Affected: 30 CFR 75.1002.

Summary of Findings: Petitioner's proposal is to use non-permissible electric equipment within 150 feet of the pillar line in the working section's only intake entry (gangway) that is regularly traveled and examined. This equipment will include drags and battery locomotives due in part to the method of mining used in pitching anthracite mines, and the alternative evaluation of the mine's air quality for methane on an hourly basis during operation. In addition, equipment operation will be suspended if at anytime the methane concentration at the equipment reaches 0.5 percent. This is considered an acceptable alternative method for the N. and L. Slope Mine. MSHA grants the petition for modification for the use of non-permissible battery-powered locomotives and non-permissible electric drags and associated non-permissible electric components located within 150 feet from pillar workings at the N. and L. Slope Mine with conditions.

Docket No.: M-2003-018-C.

FR Notice: 68 FR 20030.

Petitioner: Clintwood Elkhorn Mining Company.

Regulation Affected: 30 CFR 77.214(a).

Summary of Findings: Petitioner's proposal is to construct a refuse fill in the Blair seam at the Clintwood Elkhorn Mining Company, Cedar Branch Refuse Area, MSHA Site I.D. # 1211VA50102-82 that contains abandoned mine openings. This is considered an acceptable alternative method for the Clintwood Elkhorn III Mine. MSHA grants the petition for modification for the Clintwood Elkhorn III Mine with conditions.

Docket No.: M-2003-023-C.

FR Notice: 68 FR 16311.

Petitioner: Bowie Resources Limited.

Regulation Affected: 30 CFR 75.1002.

Summary of Findings: Petitioner's proposal is to use permissible high-voltage continuous miners inby the last open crosscut and within 150 feet of the pillar workings to develop longwall gateroads and mains at the Bowie No. 2 Mine. This is considered an acceptable alternative method for the Bowie No. 2 Mine. MSHA grants the petition for modification for the Bowie No. 2 Mine with conditions.

Docket No.: M-2003-026-C.

FR Notice: 68 FR 20030.

Petitioner: Dickinson-Russell Coal Company, LLC.

Regulation Affected: 30 77.215-2(b).

Summary of Findings: Petitioner's proposal is to expand the Roaring Fork #3 Scalped Rock Disposal Area to place scalped rock over existing Upper Banner Mine workings. The petitioner proposes to clear all organic and topsoil material from the proposed fill area prior to placement of scalped rock. This is considered an acceptable alternative method for the Roaring Fork #3 Mine Scalped Rock Disposal Area. MSHA grants the petition for modification for the Roaring Fork #3 Mine Scalped Rock Disposal Area with conditions.

Docket No.: M-2003-029-C.

FR Notice: 68 FR 28298.

Petitioner: Consol of Kentucky, Inc.

Regulation Affected: 30 CFR 75.1101-8.

Summary of Findings: Petitioner's proposal is to use a single line of automatic sprinklers for its fire protection system on main and secondary belt conveyors in the Salyers Branch Mine. The sprinklers will be not more than 10 feet apart so that the water discharged from the sprinklers will cover either 50 feet of fire-resistant belt or 150 feet of fire-resistant belt adjacent to the belt drive, and the discharge of water will extend over the belt drive, belt take-up, electrical control, and gear reducing unit with the water pressure no less than 10 psi during operation of the system. This is considered an acceptable alternative method for the Salyers Branch Mine. MSHA grants the petition for modification for a single overhead pipe sprinkler system at the Salyers Branch Mine with conditions.

Docket No.: M-2003-032-C.

FR Notice: 68 FR 33204.

Petitioner: Canyon Fuel Company, LLC.

Regulation Affected: 30 CFR 75.1002(a).

Summary of Findings: Petitioner's proposal is to use low-voltage or battery-powered non-permissible electronic testing and diagnostic equipment within 150 feet of pillar workings under controlled conditions. This equipment will include: laptop computers, oscilloscopes, vibration analysis machines, cable fault detectors, point temperature probes, infrared temperature devices, insulation testers (meggers); voltage, current and power measurement devices and recorders; pressure and flow measurement devices, signal analyzer device, ultrasonic thickness gauges, electronic component testers, and electronic tachometers, and other testing and diagnostic equipment that may be approved by the MSHA District Office. This non-permissible electronic testing and diagnostic equipment will only be used when equivalent permissible equipment does not exist. This is considered an acceptable alternative method for the Skyline Mine No. 3. MSHA grants the petition for modification for the use of low-voltage or battery-powered non-permissible electronic testing and diagnostic equipment within 150 feet of pillar workings or longwall faces, under controlled conditions, for testing and diagnosing mining equipment at the Skyline Mine No. 3 conditions.

Docket No.: M-2003-033-C.

FR Notice: 68 FR 33204.

Petitioner: R & D Coal Company.

Regulation Affected: 30 CFR 75.1002(a).

Summary of Findings: Petitioner's proposal is to use non-permissible electric equipment within 150 feet of the pillar line to include drags and battery locomotives due in part to the method of mining used in anthracite mines and the alternative evaluation of the mine air quality for methane on an hourly basis during operation. In addition, operation of such equipment will be suspended anytime the methane concentration reaches 0.5 percent. This is considered an acceptable alternative method for the Buck Mountain Slope Mine. MSHA grants the petition for modification for the Buck Mountain Slope Mine with conditions.

Docket No.: M-2003-034-C.

FR Notice: 68 FR 33204.

Petitioner: Consol Pennsylvania Coal Company.

Regulation Affected: 30 CFR 75.503.

Summary of Findings: Petitioner's proposal is to increase the maximum length of trailing cables supplying power to continuous mining machines to 950 feet and other section equipment to 900 feet during longwall panel development. This is considered an acceptable alternative method for the Bailey Mine. MSHA grants the petition for modification for the Bailey Mine with conditions.

Docket No.: M-2003-035-C.

FR Notice: 68 FR 33205.

Petitioner: Jim Walter Resources, Inc.

Regulation Affected: 30 CFR 75.503.

Summary of Findings: Petitioner's proposal is to extend the length of the cable for high-voltage continuous mining machines to 1,200 feet during longwall panel development. This is considered an acceptable alternative method for the No. 7 Mine. MSHA grants the petition for modification for the No. 7 Mine with conditions.

Docket No.: M-2003-037-C.

FR Notice: 68 FR 33205.

Petitioner: Consolidation Coal Company.

Regulation Affected: 30 CFR 75.1909(b)(6).

Summary of Findings: Petitioner's proposal is to use a six-wheeled diesel grader without individual service brakes on all of the wheels. The petitioner will equip the grader with service brakes on each of the drive wheels; stationary emergency brakes; restrict the tramming speed of the grader to 10 miles per hour; train the grader operators to check brake function during preoperational checks; and to lower the grader blade to the ground as an additional braking mechanism. The operators will also receive task training and annual refresher training on the provisions of the proposed alternative method. This is considered an acceptable alternative method for the Emery Mine. MSHA grants the petition for modification for the Emery Mine with conditions.

Docket No.: M-2003-039-C.

FR Notice: 68 FR 37177.

Petitioner: Rivers Edge Mining, Inc.

Regulation Affected: 30 CFR 75.1909(b)(6).

Summary of Findings: Petitioner's proposal is to use the Getman Diesel Grader underground with rear wheel brakes only in lieu of using brakes that act on each wheel of the vehicle. The petitioner proposes to limit the speed of the diesel graders to 10 miles per hour (mph). Higher gear ratios on the Getman diesel grader will be physically blocked in order to limit the speed to 10 mph maximum, and grader operators will be trained to drop the grader blade to provide additional stopping capability in emergency situations. These terms and conditions will provide an equivalent level of safety to the standard requirement that each wheel of the grader be equipped with service brakes. This is considered an acceptable alternative method for the Rivers Edge Mine. MSHA grants the petition for modification for the Rivers Edge Mine with conditions.

Docket No.: M-2003-040-C.

FR Notice: 68 FR 37177.

Petitioner: Pine Ridge Coal Company.

Regulation Affected: 30 CFR 75.1909(b)(6).

Summary of Findings: Petitioner's proposal is to use the Getman Diesel Grader underground with rear wheel brakes only in lieu of using brakes that act on each wheel of the vehicle. The petitioner proposes to limit the speed of the diesel graders to 10 miles per hour (mph). Higher gear ratios on the Getman diesel grader will be physically blocked in order to limit the speed to 10 mph maximum, and grader operators will be trained to drop the grader blade to provide additional stopping capability in emergency situations. These terms and conditions will provide an equivalent level of safety to the standard requirement that each wheel of the grader be equipped with service brakes. This is considered an acceptable alternative method for the Big Mountain #16 Mine. MSHA grants the petition for modification for the Big Mountain #16 Mine with conditions.

[FR Doc. 04-1387 Filed 1-21-04; 8:45 am]

BILLING CODE 4510-43-P